DEPARTMENT OF JUSTICE

National Institute of Justice

[OJP (NIJ) Docket No. 1833]

Body Armor Manufacturer Workshop

AGENCY: National Institute of Justice, Office of Justice Programs, U.S. Department of Justice.

ACTION: Notice.

SUMMARY: The National Institute of Justice (NIJ) will hold an online workshop for body armor manufacturers to provide updates on its standards and conformity assessment activities related to ballistic-resistant body armor.

DATES: The workshop will be held online Wednesday, March 19, 2025, from 1 p.m. to 3 p.m. eastern time.

FOR FURTHER INFORMATION CONTACT: Jared Gardner, Technology and Standards Advisor, Office of Technology and Standards, National Institute of Justice, 999 North Capitol Street NE, Washington, DC 20531, by telephone at (202) 702-2917 [Note: this is not a toll-free telephone number], or by email at jared.gardner@usdoj.gov.

SUPPLEMENTARY INFORMATION: The National Institute of Justice (NIJ) will hold an online workshop for body armor manufacturers to provide updates on its standards and conformity assessment activities related to ballistic-resistant body armor. NIJ will discuss recent addenda to NIJ Standard 0101.07, “Ballistic Resistance of Body Armor”, and NIJ Standard 0123.00, “Specification for NIJ Ballistic Protection Levels and Associated Test Threats”. The NIJ Compliance Testing Program (CTP) will update program participants on the initial implementation of testing body armor to NIJ Standard 0101.07 (“07”) and the anticipated timeline for publication of the NIJ Compliant Products List (CPL) for those “07” armor models. The NIJ CTP will also discuss ongoing administration of the NIJ CPL for armor compliant with NIJ Standard 0101.06 (“06”) and continued Follow-up Inspection and Testing (FIT) for those “06” armor models. Potential revisions to NIJ CTP program requirements will also be discussed, including FIT testing procedures for “07” armor models listed on the NIJ CPL, disclosure of information about ballistic materials used to manufacture body armor submitted to the NIJ CTP for certification, and labeling requirements, among others. NIJ will also discuss potential changes to how information is displayed on the NIJ Compliant Products List and how it anticipates future updates to NIJ standards and NIJ CTP program requirements will be communicated.

The workshop will be presented as an online webinar with opportunities for attendees to ask questions. To register for the workshop, please send an email to askctp@nijctp.org by 5 p.m. eastern time on Friday, March 14, 2025, and provide the name of your company and the names of the representatives who will attend. Please put “Body Armor Manufacturer Workshop” in the subject line of the email. A preliminary agenda will be sent to registered attendees approximately 48 hours prior to the workshop.

For more information on NIJ's standards and conformity assessment activities, please visit https://nij.ojp.gov/topics/equipment-and-technology/standards-and-conformity-assessment. For more information on body armor, please visit https://nij.ojp.gov/topics/equipment-and-technology/body-armor. More information on the NIJ CTP can be found here: https://cjttec.org/compliance-testing-program/.

NIJ publishes this notice pursuant to its authority at 34 U.S.C. 10122(c) and 6 U.S.C. 161-165.

Nancy La Vigne,
Director, National Institute of Justice.

[FR Doc. 2025-01247 Filed 1-17-25; 8:45 am]

BILLING CODE 4410-18-P